DEPARTMENT OF HEALTH AND HUMAN SERVICES

Meeting Announcement for the Technical Advisory Panel on Medicare Trustee Reports

ACTION: Notice of public meeting.

SUMMARY: This notice announces the meeting date for the second Technical Advisory Panel on Medicare Trustee Reports on Friday, September 30, 2016 in Washington, DC.

DATES: The meeting will be held on Friday, September 30, 2016 from 9:00 a.m. to 5:00 p.m.. Eastern Daylight Time (EDT) and it is open to the public.

ADDRESSES: This will be a virtual meeting held via WebEx.

FOR FURTHER INFORMATION CONTACT: Dr. Donald Oellerich, Designated Federal Officer, at the Office of Human Services Policy, Assistant Secretary for Planning and Evaluation, U.S. Department of Health and Human Services, 200 Independence Ave. SW., Washington, DC 20201, (202) 690-8410.

SUPPLEMENTARY INFORMATION:

I. Purpose: The Panel will discuss the long-term rate of change in health spending and may make recommendations to the Secretary on how the Medicare Trustees might more accurately estimate health spending in the short and long run. The Panel's discussion is expected to be very technical in nature and will focus on the actuarial and economic assumptions and methods by which Trustees might more accurately measure health spending. This Committee is governed by the provisions of the Federal Advisory Committee Act, as amended(5 U.S.C. App. 2, section 10(a)(1) and (a)(2)). The Committee is composed of 9 members appointed by the Assistant Secretary for Planning and Evaluation.

II. Agenda. The Panel will likely hear presentations from the HHS Office of the Actuary on issues they wish the panel to address. This may be followed by HHS staff presentations regarding the methods and assumptions for the short range (10 year) Part A, Part B and Part D. After any presentations, the Panel will deliberate openly on the topics. Interested persons may observe the deliberations, but the Panel will not hear public comments during this time. The Panel will also allow an open public session for any attendee to address issues specific to the topic.

III. Meeting Attendance. The Friday, September 30, 2016 meeting is open to the public through WebEx; however, WebEx attendance is limited to space available.

Meeting Registration

The public may join the meeting through WebEx. Space is limited and registration is required in order to attend. Registration may be completed by emailing or faxing all the following information to Dr. Donald Oellerich at don.oellerich@hhs.gov or fax 202-690-6562:

Name.

Company name.

Postal address.

Email address.

A confirmation email with the WebEx information will be sent to the registrants shortly after completing the registration process. If language interpretation or other reasonable accommodation for a disability is needed, please contact Dr. Oellerich, no later than Sept 24, 2016 by sending an email message to don.oellerich@hhs.gov or calling 202-690-8410.

IV. Special Accommodations. Individuals requiring special accommodations must include the request for these services during registration.

V. Copies of the Charter. The Secretary's Charter for the Technical Advisory Panel on Medicare Trustee Reports is available upon request from Dr. Donald Oellerich at don.oellerich@hhs.gov or by calling 202-690-8410.

Dated: September 16, 2016.
Kathryn E. Martin,
Acting Assistant Secretary for Planning and Evaluation.

[FR Doc. 2016-22890 Filed 9-21-16; 8:45 am]

BILLING CODE 4150-05-P